DEPARTMENT OF AGRICULTURE

Natural Resources Conservation Service

Notice of Proposed Change to Section IV of the Field Office Technical Guide (FOTG) of the Natural Resources Conservation Service in Oregon

AGENCY: Natural Resources Conservation Service (NRCS), USDA.

ACTION: Notice of availability of proposed changes in section IV of the FOTG of the NRCS in Oregon for review and comment.

SUMMARY: It is the intention of NRCS in Oregon to issue revisions to Conservation Practice Standards 327, Conservation Cover, and 328, Conservation Crop Rotation, in section IV of the State Technical Guide in Oregon. These practices may be used in conservation systems that treat highly erodible land.

DATES: Comments will be received until on or before January 8, 2001. Once the review and comment period is over and the standards are finalized, they will be placed in the individual Field Office Technical Guide in each field office.

ADDRESSES: Address all requests and comments to Roy M. Carlson, Jr., Leader for Technology, Natural Resources Conservation Service (NRCS), 101 SW Main Street, Suite 1300, Portland, Oregon 97204. Copies of these standards will be made available upon written request. You may submit electronic requests and comments to roy.carlson@or.usda.gov.

FOR FURTHER INFORMATION CONTACT: Roy M. Carlson, Jr., 503-414-3231.

SUPPLEMENTARY INFORMATION: Section 343 of the Federal Agriculture Improvement and Reform Act of 1996 states that revisions made after enactment of the law, to NRCS state technical guides used to carry out highly erodible land and wetland provisions of the law, shall be made available for public review and comment. For the next 30 days, the NRCS in Oregon will receive comments relative to the proposed changes. Following that period, a determination will be made by the NRCS in Oregon regarding disposition of those comments and a final determination of changes will be made. In Oregon, “technical guides” refers to the Field Office Technical Guide maintained at each NRCS Field Office in Oregon.

Dated: December 4, 2000.
Roy M. Carlson, Jr.,
Acting State Conservationist, Portland, Oregon.

[FR Doc. 00-31338 Filed 12-7-00; 8:45 am]

BILLING CODE 3410-16-U